DEPARTMENT OF LABOR

Mine Safety and Health Administration

Fee Adjustment for Testing, Evaluation, and Approval of Mining Products

AGENCY: Mine Safety and Health Administration (MSHA), Labor.

ACTION: Notice of fee adjustment.

SUMMARY: The Mine Safety and Health Administration (MSHA) is announcing a revised hourly rate for the fees charged to applicants and approval holders for testing, evaluating, and approving products for use in mines. MSHA charges a fee to cover the costs (direct and indirect) of its services associated with the approval program. The new hourly rate will be $166.

DATES: MSHA will charge the new hourly rate for new approval services starting January 1, 2024.

FOR FURTHER INFORMATION CONTACT: Juliette E. Hill, Chief, Approval and Certification Center (A&CC), 304-547-2029 or 304-547-0400 (these are not toll-free numbers).

SUPPLEMENTARY INFORMATION:

I. Background

The Federal Mine Safety and Health Act of 1977 (Mine Act), as amended, authorizes MSHA to approve equipment, materials, and explosives for use in mines to ensure that the products are designed, constructed, and maintained so as not to cause a fire, explosion, or other accident. Under 30 CFR part 5—Fees for Testing, Evaluation, and Approval of Mining Products, MSHA establishes the method the Agency uses to calculate the fees needed to recover costs for approval services. Under 30 U.S.C. 966, MSHA may collect and retain up to $2,499,000 of fees collected for the approval and certification of equipment, materials, and explosives for use in mines.

On December 21, 2018, MSHA published a notice of fee adjustment in the Federal Register (83 FR 65747) that adjusted the Agency's fees for testing, evaluation, and approval of products manufactured for use in mines. Since January 1, 2019, MSHA has charged an hourly rate of $137.

II. Applicable Fee

Under 30 CFR 5.50, a new hourly rate must remain in effect for at least 1 year and the rate will be subject to revision at least once every 3 years. MSHA determines a new hourly rate by dividing the total of approval program costs (direct and indirect costs) for a previous fiscal year by the number of total direct hours spent on approval program activities for that fiscal year.

For this update, MSHA calculated the FY 2024 hourly rate using FY 2021 costs. MSHA has determined that as of January 1, 2024, the hourly rate will be $166 per hour for services on new applications and post-approval activities (changes to approvals and post-approval product audits). This rate increase is consistent with cumulative inflation between January 2019, when the last hourly rate was instituted, and mid-2023.

• MSHA will process applications and post-approval activities postmarked before January 1, 2024, under the existing FY 2019 hourly rate of $137.

• MSHA will process applications and post-approval activities postmarked on or after January 1, 2024, under the revised FY 2024 hourly rate of $166.

This fee information is available on the MSHA website at http://www.msha.gov.

Christopher J. Williamson,
Assistant Secretary of Labor for Mine Safety and Health.

[FR Doc. 2023-24142 Filed 11-1-23; 8:45 am]

BILLING CODE 4520-43-P